NUCLEAR REGULATORY COMMISSION

Advisory Committee on Reactor Safeguards

In accordance with the purposes of Sections 29 and 182b of the Atomic Energy Act (42 U.S.C. 2039, 2232b), the Advisory Committee on Reactor Safeguards (ACRS) will hold a meeting on December 4-6, 2008, 11545 Rockville Pike, Rockville, Maryland. The date of this meeting was previously published in the Federal Register on Monday, October 22, 2007, (72 FR 59574).

Thursday, December 4, 2008, Conference Room T-2B3, Two White Flint North, Rockville, Maryland

8:30 a.m.-8:35 a.m.: Opening Remarks by the ACRS Chairman (Open)—The ACRS Chairman will make opening remarks regarding the conduct of the meeting.

8:35 a.m.-10 a.m.: Chapters 7 and 14 of the SER Associated with the Economic Simplified Boiling Water Reactor (ESBWR) Design Certification Application (Open/Closed)—The Committee will hear a briefing by and hold discussions with representatives of the NRC staff and General Electric—Hitachi Nuclear Energy (GEH) regarding Chapters 7 and 14, of the NRC staff's SER With Open Items associated with the ESBWR design certification application.

[Note: A portion of this session may be closed to protect information that is proprietary to GEH or its contractors pursuant to 5 U.S.C. 552b(c)(4)]

10:15 a.m.-12 p.m.: Early Site Permit Application and the Final SER for the Vogtle Nuclear Plant (Open)—The Committee will hear a briefing by and hold discussions with representatives of the NRC staff and Southern Nuclear Operating Company (SNC) regarding the Early site permit application and the NRC staff's final SER for the Vogtle Nuclear Plant.

1 p.m.-2:30 p.m.: Status of Staff Activities Associated with Potential Revision to 10 CFR 50.46(b) (Open)—The Committee will hear a briefing by the Subcommittee Chairman and hold discussions with representatives of the NRC staff regarding the status of staff activities associated with potential revision to 10 CFR 50.46(b).

2:45 p.m.-4:15 p.m.: NRC Staff's Initial White Paper on Containment Overpressure Credit Issue (Open)—The Committee will hear reports by the Subcommittee Chairman and hold discussions with representatives of the NRC staff regarding the initial White Paper on the use of containment accident pressure in determining the available net positive suction head of emergency core cooling and containment heat removal pumps, and related matters.

4:15 p.m.-7 p.m.: Preparation of ACRS Reports (Open)—The Committee will discuss proposed ACRS reports on matters discussed during this meeting.

Friday, December 5, 2008, Conference Room T-2B3, Two White Flint North, Rockville, Maryland

8:30 a.m.-8:35 a.m.: Opening Remarks by the ACRS Chairman (Open)—The ACRS Chairman will make opening remarks regarding the conduct of the meeting.

8:35 a.m.-10 a.m.: Overview of the Human Reliability Analysis (HRA) Research Activities (Open)—The Committee will hear a briefing by and hold discussions with representatives of the NRC staff regarding HRA research activities.

10:15 a.m.-12 p.m.: Draft Policy Statement on Defense-in-Depth for Future Nuclear Reactors (Open)—The Committee will hear a briefing by and hold discussions with representatives of the NRC staff regarding draft Policy Statement on Defense-in-Depth for Future Nuclear Reactors.

1:30 p.m.-2:30 p.m.: Future ACRS Activities/Report of the Planning and Procedures Subcommittee (Open/Closed)—The Committee will discuss of the recommendations of the Planning and Procedures Subcommittee regarding items proposed for consideration by the Full Committee during future ACRS meetings and other matters related to the conduct of the ACRS business.

[Note: A portion of this meeting may be closed pursuant to 5 U.S.C. 552b(c)(2) and (6) to discuss organizational and personnel matters that relate solely to internal personnel rules and practices of ACRS, and information the release of which would constitute a clearly unwarranted invasion of personal privacy]

2:30 p.m.-2:45 p.m.: Reconciliation of ACRS Comments and Recommendations (Open)—The Committee will discuss the responses from the NRC Executive Director for Operations to comments and recommendations included in recent ACRS reports and letters.

2:45 p.m.-3 p.m.: Election of ACRS Officers for CY 2009 (Open)—The Committee will discuss the election of the Chairman and Vice-Chairman for the ACRS and Member-at-Large for the Planning and Procedures Subcommittee for FY 2009.

3:15 p.m.-7 p.m.: Preparation of ACRS Reports (Open)—The Committee will discuss proposed ACRS reports.

Saturday, December 6, 2008, Conference Room T-2B3, Two White Flint North, Rockville, Maryland

8:30 a.m.-12:30 p.m.: Preparation of ACRS Reports (Open)—The Committee will continue its discussion of proposed ACRS reports.

12:30 p.m.-1 p.m.: Miscellaneous (Open)—The Committee will discuss matters related to the conduct of Committee activities and specific issues that were not completed during previous meetings, as time and availability of information permit.

Procedures for the conduct of and participation in ACRS meetings were published in the Federal Register on October 6, 2008, (73 FR 58268-58269). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

In accordance with Subsection 10(d) Public Law 92-463, I have determined that it may be necessary to close portions of this meeting noted above to discuss organizational and personnel matters that relate solely to the internal personnel rules and practices of the ACRS, and information the release of which would constitute a clearly unwarranted invasion of personal privacy pursuant to 5 U.S.C. 552b(c)(2) and (6). In addition, it may be necessary to close a portion of the meeting to protect information designated as proprietary by General Electric—Hitachi or its contractors pursuant to 5 U.S.C. 552b(c)(4).

Further information regarding topics to be discussed, whether the meeting has been canceled or rescheduled, as well as the Chairman's ruling on requests for the opportunity to present oral statements and the time allotted therefor can be obtained by contacting Girija Shukla, Cognizant ACRS staff (301-415-6855), between 7:15 a.m. and 5 p.m., (ET). ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ACRS/.

Video teleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service. Individuals or organizations requesting this service will be responsible for telephone line charges and for providing the equipment and facilities that they use to establish the video teleconferencing link. The availability of video teleconferencing services is not guaranteed.

Dated: November 13, 2008.
Andrew L. Bates,
Advisory Committee Management Officer.

[FR Doc. E8-27469 Filed 11-18-08; 8:45 am]

BILLING CODE 7590-01-P